DEPARTMENT OF THE INTERIOR

Bureau of Land Management

[BLM_OR_FRN_MO_4500179756]

Notice of Availability of the Final Hult Reservoir and Dam Safety Environmental Impact Statement, Oregon

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Final Hult Reservoir and Dam Safety Environmental Impact Statement (EIS).

DATES: The BLM will not issue a decision on the proposal for a minimum of 30 days after the date that the Environmental Protection Agency (EPA) publishes its Notice of Availability (NOA) in the Federal Register. The EPA usually publishes its NOAs on Fridays.

ADDRESSES: The Final EIS and documents pertinent to this proposal are available for review on the BLM ePlanning project website at https://bit.ly/4365A9m. They are also available for in-person examination at the BLM's Siuslaw Field Office at 3106 Pierce Parkway, Springfield, OR 97477.

FOR FURTHER INFORMATION CONTACT: Sarah Bickford, (541) 683-6767; 3106 Pierce Parkway, Springfield, OR 97477; sbickfor@blm.gov. Individuals in the United States who are deaf, deafblind, hard of hearing, or have a speech disability may dial 711 (TTY, TDD, or TeleBraille) to access telecommunications relay services for contacting Ms. Bickford. Individuals outside the United States should use the relay services offered within their country to make international calls to the point-of-contact in the United States.

SUPPLEMENTARY INFORMATION:

Background

The Hult Reservoir and Hult Pond Dam are located near the community of Horton, Oregon. The reservoir is fed by Lake Creek and smaller tributaries. The earthen embankment dam was built in the 1930s or 1940s to create a log holding pond for the Hult Lumber Company sawmill. Today, the 54-acre reservoir and surrounding area are primarily used as a recreation destination. The dam serves no other water retention purposes and provides no flood protection. The average lifespan for an earthen embankment dam is 50 years, which the Hult Dam has exceeded by over 3 decades. The BLM believes that the dam is at the end of its lifespan.

When the BLM took ownership of the reservoir and dam in a 1994 land exchange, the dam had been poorly maintained, but a 1990 Bureau of Reclamation inspection found there was no immediate danger of failing. Since then, the BLM has made improvements to the dam, including repairs, reinforcement, and installation of monitoring equipment. BLM staff continuously monitor the reservoir level and adjust the dam outlet during winter weather events to avoid overtopping.

In 2017, the U.S. Army Corps of Engineers (USACE) inspected the dam and found multiple failure points due to its age and condition. The 2018 USACE report based on this inspection described that flooding resulting from dam failure could impact 70 to 130 people downstream and cause damage to Oregon Highway 36, as well as potential loss of life.

Purpose and Need

The project's purpose and need is to decommission the current Hult Dam structure to reduce the potential for failure of the aging structure and associated loss of life and critical services, and to be fiscally responsible to the public in managing the costs associated with the dam.

Alternatives

The Draft EIS analyzed three action alternatives and a No Action alternative. It also considered eight alternatives that were not presented in detail; the Final EIS adds four more alternatives not presented in detail that came from public comments on the Draft EIS.

Alternative 1 (Continue Current Management) would leave the dam in place and continue current operations. The analysis assumes that, because of the dam's condition and age, within approximately 8 years either the dam will fail catastrophically (Alternative 1.1), or the BLM would have to drain the reservoir because a catastrophic dam failure was imminent (Alternative 1.2). Alternative 2 (Remove the Existing Dam and Build a New Dam to Maintain Hult Reservoir) would remove the current Hult Pond Dam, build a new dam in its place, and refill the reservoir. Alternative 3 (Remove Hult Reservoir; Add Little Log Pond) would remove the dam and build a smaller dam downstream on Lake Creek to create a 5-acre pond (Little Log Pond) that would be used for recreation. Alternative 4 (Remove Hult Reservoir) would permanently remove the existing dam infrastructure; Hult Reservoir would be drained, and a natural stream channel would be reestablished through the former reservoir footprint.

Preferred Alternative

The BLM's preferred alternative is Alternative 4 (Remove Hult Reservoir). In addition to removing the dam and allowing Lake Creek to flow freely, this alternative would also remove the existing poorly functioning fish ladder near the dam. Excavated dam material would fill in the current spillway. A new bridge would be built to span the stream channel near the current dam location, replacing the existing bridge and road across the dam. This work would take place during summer months when water levels would be lowest.

Project design features include:

• Riparian and wetland restoration in the former reservoir area, with the creation of habitat for fish, western pond turtles, and beavers.

• Improved recreation amenities, including a new day-use area, a developed camp host site and a group campsite, and a multi-use trail adjacent to the restoration area.

• Cultural design features including signage with information about the area's original indigenous inhabitants and the lumber mill previously located at the site.

In addition, proposed mitigation measures would reduce impacts to wetlands, western pond turtles, native fish, rare aquatic plants, and recreationists.

Public Involvement

The public scoping period for the project was held in January 2022. Issues identified by the public included changes to recreation access and opportunities such as fishing, swimming, and boating; effects to wildlife, plants, ecosystems, fish, and fish passage; effects to the local economy and community; availability of water for fire suppression; impacts on water quality, availability, and rights; and impacts on local Tribes. The BLM solicited additional public input during the EIS process by holding an open house in May 2022 and releasing a draft of EIS chapters 1 and 2 for a five-week public comment period.

The release of the complete Draft EIS in October 2023 was accompanied by two public meetings (one virtual, one in-person). The BLM received 35 comment letters during the 45-day comment period. Commenters asked the BLM to add or clarify information in the EIS and proposed additional alternatives.

Comments on the Draft EIS received from the public and internal BLM review were considered and incorporated as appropriate into the Final EIS. Public comments resulted in the addition of clarifying text but did not significantly change proposed actions.

Changes Made Between the Draft and Final EIS

The BLM addressed 48 substantive comments in the Final EIS. The BLM's responses to comments include additional information about permits required for the project, impacts to environmental justice populations, and impairment of waterbodies in the project area, along with corrections to facts and data and discussion of other alternatives.

The Final EIS includes new proposed mitigation measures that would:

• Reduce adverse impacts to environmental justice populations under Alternative 4.

• Reduce adverse impacts to special status aquatic plants under Alternative 2.

• Reduce adverse impacts to western pond turtles under Alternatives 3 and 4.

Changes include updated cost estimates for each alternative; changes to the Comparison of the Alternatives section and tables; and issues related to environmental justice, special status plants, and western pond turtles.

Other new information includes findings of recent surveys for archeological sites and artifacts, rare plants, and invasive plants within the project area, and a new, more accurate calculation of wetlands acres. Several EIS sections have been updated to reflect this new data.

Cooperators

Formal cooperating agencies on this EIS include:

• Confederated Tribes of Coos, Lower Umpqua, and Siuslaw Indians of Oregon

• Confederated Tribes of Grand Ronde

• Oregon Department of Fish and Wildlife

• Oregon Department of Forestry—Lane County

• U.S. Army Corps of Engineers—Regulatory Branch

(Authority: 40 CFR 1506.6, 40 CFR 1506.10)

Dennis Teitzel,
District Manager, Northwest Oregon District, Oregon/Washington.

[FR Doc. 2024-16423 Filed 7-25-24; 8:45 am]

BILLING CODE 4331-24-P